DEPARTMENT OF COMMERCE

National Oceanic and Atmospheric Administration

[RTID 0648-XA013]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, February 11, 2020, from 2 p.m. to 5:30 p.m.; Wednesday, February 12, 2020, from 9 a.m. to 5 p.m.; and, Thursday, February 13, 2020, from 9 a.m. to 1 p.m. For agenda details, see SUPPLEMENTARY INFORMATION.

ADDRESSES: The meeting will be held at The Sanderling Resort, 1461 Duck Road, Duck, NC 27949; telephone: (855) 412-7866.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Tuesday, February 11, 2020

2020 Implementation Plan

Review and approve 2020 Implementation Plan and discuss 2020 Council Meeting Topics.

Review and Approve New SSC Membership

Kitty Hawk Wind Project

Wednesday, February 12, 2020

NEFSC Survey and Data Collection Programs

Discussion on fish and redesigned clam surveys, ecosystem data programs, gear testing and gear innovation work (including an overview of the role of Northeast Trawl Advisory Panel), social and economic data collections, and cooperative research.

GARFO/NEFSC Joint Strategic Plan

Presentation on final NEFSC/GARFO Regional Strategic Plan for 2020-2023 and Annual Implementation Plan.

Update on Illex Working Group

Review and Approve Public Hearing Document for Mackerel, Squid, and Butterfish Goals and Objectives and Illex Permit Amendment

Review Fishery Management Action Team input, Review Advisory Panel input, review Committee recommendations, and select any preferred alternatives.

Thursday, February 13, 2020

Business Session

Committee Reports: SSC; Executive Director's Report; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: January 17, 2020.
Tracey L. Thompson,
Acting Deputy Director, Office of Sustainable Fisheries, National Marine Fisheries Service.

[FR Doc. 2020-01086 Filed 1-22-20; 8:45 am]

BILLING CODE 3510-22-P